ENVIRONMENTAL PROTECTION AGENCY

[FRL-9496-1]

San Fernando Valley Area 2 Superfund Site; Notice of Proposed Prospective Purchaser Agreement Re: 4057 and 4059 Goodwin Avenue, Los Angeles, CA

AGENCY: Environmental Protection Agency (EPA).

ACTION: Notice; request for public comment.

SUMMARY: The EPA is hereby providing notice of a proposed prospective purchaser agreement (Agreement) concerning 4057 and 4059 Goodwin Avenue, Los Angeles, California (Property). The Agreement is entered into pursuant to the Comprehensive Environmental Response, Compensation, and Liability Act of 1980, as amended (CERCLA), 42 U.S.C. 9601, et seq., and the authority of the Attorney General of the United States to compromise and settle claims of the United States. The Agreement provides for the prospective purchasers, Glendale/Goodwin Realty I, LLC, an Ohio limited liability company, The Kroger Co., an Ohio corporation, and Ralphs Grocery Company, an Ohio corporation, to purchase the Property and to conduct work to clean up soil contamination at the Property.

DATES: EPA will receive written comments relating to the settlement until December 23, 2011. EPA will consider all comments it receives during this period, and may modify or withdraw consent to the settlement if any comments disclose facts or considerations indicating that the settlement is inappropriate, improper, or inadequate.

A copy of the settlement document may be obtained by calling (415) 820-4700 and requesting a copy of the document.

ADDRESSES: Written comments should be addressed to Marie Rongone, U.S. Environmental Protection Agency Region IX, 75 Hawthorne Street (mail code ORC-3), San Francisco, California 94105-3901, or may be faxed to her at (415) 947-3570 or sent by email to Rongone.Marie@epa.gov.

FOR FURTHER INFORMATION CONTACT: Additional information about the Prospective Purchaser Agreement for 4057 and 4059 Goodwin Avenue, Los Angeles, California, may be obtained by calling Marie Rongone at (415) 972-3891 or Lisa Hanusiak at (415) 972-3152.

Dated: November 8, 2011.
Jane Diamond,
Director, Superfund Division, Region IX.

[FR Doc. 2011-30252 Filed 11-22-11; 8:45 am]

BILLING CODE 6560-50-P